DEPARTMENT OF HEALTH AND HUMAN SERVICES

Centers for Medicare & Medicaid Services

[CMS-5525-N]

Medicare, Medicaid and Children's Health Insurance Program (CHIP); Meeting on Behavioral Health Payment and Care Delivery

AGENCY: Centers for Medicare & Medicaid Services (CMS), HHS.

ACTION: Notice of meeting.

SUMMARY: This notice announces a public meeting to discuss ideas for a potential behavioral health payment model to improve health care quality and access, while lowering the cost of care for Medicare, Medicaid, or Children's Health Insurance Program (CHIP) beneficiaries with behavioral health conditions.

DATES:

Meeting Date: This meeting will be held at 10 a.m. until 5 p.m. Eastern Standard Time (EST) on Friday, September 8, 2017. The meeting is open to the public, but attendance is limited to the space available.

Meeting Registration: Individuals must register online at https://innovation.cms.gov/resources/behavioral-health-paymentcare-summit.html by 12:00 a.m. EST on August 25, 2017.

Submission of Written Questions or Statements: Individuals may submit written questions or statements by email, online, fax, or mail to the address listed in the ADDRESSES section of this notice by 12:00 a.m. EST. on August 25, 2017.

ADDRESSES:

Meeting Location: The meeting will be held in the Grand Auditorium, at the CMS Central Office, 7500 Security Boulevard, Baltimore, MD 21244-1850.

Submission of Written Questions or Statements: Individuals may submit written questions or statements by email at CMMIBHSummit@ketchum.com, online at https://innovation.cms.gov/resources/behavioral-health-paymentcare-summit.html, by fax to 410-786-1048, or by mail to the CMS Innovation Center, Attn: CMMIBH Summit mailstop 08-64, 2810 Lord Baltimore Drive, Suite 130, Windsor Mill, MD 21244.

FOR FURTHER INFORMATION CONTACT: CMMIBHSummit@ketchum.com, for questions about this meeting.

News Media: Press inquiries will be handled at press@cms.hhs.gov.

SUPPLEMENTARY INFORMATION:

I. Background

The Center for Medicare and Medicaid Innovation (the Innovation Center) within the Centers for Medicare & Medicaid Services (CMS) was established by section 1115A of the Social Security Act (the Act). The Congress created the Innovation Center for the purpose of testing “innovative payment and service delivery models to reduce program expenditures . . . while preserving or enhancing the quality of care” for those individuals who receive Medicare, Medicaid, or Children's Health Insurance Program (CHIP) benefits. New payment and service delivery model tests are designed by the Innovation Center in accordance with the requirements of section 1115A of the Act. During the design of a model test, the Innovation Center builds on the ideas received from stakeholders and consults with clinical and analytical experts with expertise in medicine and health care management, as well as with representatives of relevant Federal agencies, beneficiaries and caregivers, health care providers, advocacy groups, and other experts in the field.

The Innovation Center is interested in designing a potential payment or service delivery model to improve health care quality and access, while lowering the cost of care for Medicare, Medicaid, or CHIP beneficiaries with behavioral health conditions. The model may include participation by other payers, qualify as an Advanced Alternative Payment Model (APM), improve health care provider participation in telehealth services, and address the needs of beneficiaries with deficits in care in the following potential areas leading to poor clinical outcomes or potentially avoidable expenditures: (1) Substance use disorders; (2) mental disorders in the presence of co-occuring conditions; (3) Alzheimer's disease and related dementias; and/or (4) behavioral health workforce challenges.

The Innovation Center solicits and selects organizations to participate in voluntary model tests through open, competitive processes. The process follows established protocols to ensure that it is fair and transparent, provides opportunities for potential participants to ask questions regarding the Innovation Center's expectations, and relies on multi-stakeholder input to inform selection of the most qualified participants. Many factors are used in the design and selection of models to be tested. The Innovation Center does not test unsolicited proposals, but does use such ideas to inform model design.

II. Meeting Topic and Format

The meeting will include four panel sessions of behavioral health experts of varied backgrounds who will discuss substance use disorders, mental health in the presence of co-occuring conditions, Alzheimer's disease and related dementias, and behavioral health workforce development.

All stakeholders, including community health organizations, medical societies, health care providers, State Medicaid agencies, advocacy groups, non-profit organizations, and other interested parties are invited to participate in this meeting by: (1) Listening to panelists discuss payment for and delivery of behavioral health services and share experiences of furnishing behavioral health services; (2) asking questions to panelists; and (3) making brief individual statements. We note that the time for participants to make statements will be limited to 2 minutes per panel.

The recommendations provided during this meeting will assist us, as we explore the possibility of designing a model test to address behavioral health payment and service delivery.

III. Registration Instructions

Participants must register at https://innovation.cms.gov/resources/behavioral-health-paymentcare-summit.html no later than 12 a.m. EST on August 25, 2017 to attend the meeting. We will accept written questions and statements, not to exceed one single-spaced, typed page, by email, on-line, fax, or mail to the addresses specified in the ADDRESSES section of this notice, by the dates specified in the DATES section of this notice.

IV. Security, Building, and Parking Guidelines

The meeting is open to the public, but attendance will be limited based on meeting room capacity. Seating capacity is limited to approximately 400 registrants. Persons wishing to attend this meeting must register by the dates specified in the DATES section of this notice.

This meeting will be held in a Federal government building; therefore, Federal security measures are applicable. The on-site check-in for visitors will be held from 9:00 a.m. to 10:00 a.m. We recommend that confirmed registrants arrive reasonably early, to allow additional time to clear security. We recommend arrival no later than 9:30 a.m. to complete the security checkpoints and be escorted for the start of the meeting at 10:00 a.m. Security measures include the following:

• Presentation of government-issued photographic identification to the Federal Protective Service or Guard Service personnel. As of October 10, 2015, visitors seeking access to federal agency facilities using their state-issued driver's license or identification cards must present proper identification issued by a state that is compliant with the REAL ID Act of 2005 (Pub. L. 109-13, 119 Statute 302, enacted on May 11, 2005) or a state that has received an extension. What constitutes proper identification and whether a driver's license is acceptable identification for accessing a federal facility may vary, based on which state issued the driver's license. For detailed information, please refer to the Department of Homeland Security (DHS) Web site at: http://www.dhs.gov. When planning to visit a federal facility, visitors who have further questions about acceptable forms of identification are encouraged to contact the facility to determine acceptable identification.

• Inspection of vehicle's interior and exterior (this includes engine and trunk inspection) at the entrance to the grounds. Parking permits and instructions will be issued after the vehicle inspection. Participants not in possession of a valid identification or who are in possession of prohibited items will be denied access to the complex. Prohibited items on federal property include but are not limited to, alcoholic beverages, illegal narcotics, explosives, firearms or other dangerous weapons (including pocketknives), dogs or other animals except service animals.

• Inspection, via metal detector or other applicable means of all persons entering the building. We note that all items brought into CMS, whether personal or for the purpose of presentation or to support a presentation, are subject to inspection. We cannot assume responsibility for coordinating the receipt, transfer, transport, storage, set up, safety, or timely arrival of any personal belongings or items used for presentation or to support a presentation.

Note: Individuals who are not registered in advance will not be permitted to enter the building and will be unable to attend the meeting. The public may not enter the building earlier than 45 minutes prior to the start of check-in of the meeting (8:15 a.m.).

All visitors must be escorted in areas other than the lower and first floor levels in the CMS Central Office.

V. Special Accommodations

Individuals requiring special accommodations must include the request for these services when registering for the meeting.

VI. Collection of Information Requirements

This document does not impose information collection requirements, that is, reporting, recordkeeping, or third-party disclosure requirements. Consequently, there is no need for review by the Office of Management and Budget under the authority of the Paperwork Reduction Act of 1995 (44 U.S.C. 3501 et seq.).

Dated: July 17, 2017.
Patrick Conway,
Deputy Administrator for Innovation and Quality & Director, Centers for Medicare & Medicaid Services.

[FR Doc. 2017-15374 Filed 7-20-17; 8:45 am]

BILLING CODE 4120-01-P